DEPARTMENT OF HOMELAND SECURITY

Coast Guard

33 CFR Part 117

[Docket No. USCG-2014-0498]

Drawbridge Operation Regulation; Duwamish Waterway, Seattle, WA

AGENCY: Coast Guard, DHS.

ACTION: Notice of deviation from drawbridge regulation.

SUMMARY: The Coast Guard has issued a temporary deviation from the operating schedule that governs the South Park Highway Bridge across the Duwamish Waterway, mile 3.8, at Seattle, Washington. The deviation is necessary to accommodate the Grand Opening event of the South Park Highway Bridge. This deviation allows the drawbridge to remain in the closed position and need not open to marine traffic.

DATES: This deviation is effective from 3:30 p.m. on June 29, 2014 to 10 p.m. on June 29, 2014.

ADDRESSES: The docket for this deviation, [USCG-2014-0498] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven M. Fischer, Thirteenth District Bridge Administrator, Coast Guard; telephone 206-220-7282, email: Steven.M.Fischer3@uscg.mil. If you have questions on viewing the docket, call Cheryl Collins, Program Manager, Docket Operations, telephone 202-366-9826.

SUPPLEMENTARY INFORMATION: The South Park Highway double bascule span drawbridge replacement project has progressed to the point of completion. The City of Seattle Department of Transportation (SDOT) requested a change to the current deviation schedule under which the bridge operates to hold a grand opening celebration scheduled for June 29, 2014. This new temporary deviation will allow the bridge to remain in the closed position and need not open to marine traffic from 3:30 p.m. on June 29, 2014 to 10 p.m. on June 29, 2014 to accommodate the event. The event will be attended by the public, plus local and national dignitaries, as SDOT dedicates the new bridge and reopens a historic and critical transportation link. Festivities will include a parade across the bridge and a street party featuring music and other performances, as well as food and drink vendors. Participants will be able to walk across the bridge and tour its south tower. Currently the bridge operates under a temporary deviation (USCG-2014-0237, 79 FR 21128, April 15, 2014) from 12:01 a.m. on March 30, 2014 to 11:59 p.m. on September 1, 2014 to enable timely completion of the bridge construction project. This deviation allows the drawbridge to remain closed to mariners needing a full channel, double bascule leaf drawbridge opening unless 12 hours advance notice is provided. Mariners that only require a single leaf half channel drawbridge opening will be given an opening upon signal. A draw tender will be present 24 hours a day, 7 days week.

The South Park Highway Double Bascule Bridge is located at Duwamish Waterway, mile 3.8, in the city of Seattle, Washington, and provides 34.8 feet of vertical clearance above at center span while in the closed position and 30 feet of vertical clearance at the extreme east and west ends of the navigable channel and unlimited vertical clearance with the bascule bridge in the fully open position. Vertical clearances are referenced to mean high-water elevation (MHW). Horizontal clearance is 128 feet. However, horizontal clearance may be restricted by construction barges. As such, mariners are advised to consult the Local Notice to Mariners for current conditions.

Maritime traffic on this stretch of the Duwamish waterway consists of vessels ranging from small pleasure craft, sailboats, small tribal fishing boats, and commercial tug and tow, and mega yachts. Vessels able to pass through the bridge in the closed positions may do so at anytime but are advised to use caution as the area surrounding the bridge has numerous construction craft and equipment in the water. The bridge will not be able to open for emergencies and there is no immediate alternate route for vessels to pass. The Coast Guard will also inform the users of the waterways through our Local and Broadcast Notices to Mariners of the change in operating schedule for the bridge so that vessels can arrange their transits to minimize any impact caused by the temporary deviation.

The drawbridge must return to the current deviation operating schedule (79 FR 21128, April 15, 2014) immediately at the end of the effective period of this temporary deviation. This deviation from the operating regulations is authorized under 33 CFR 117.35.

Dated: June 12, 2014.
Steven M. Fischer,
Bridge Administrator, Thirteenth Coast Guard District.

[FR Doc. 2014-15124 Filed 6-26-14; 8:45 am]

BILLING CODE 9110-04-P